DEPARTMENT OF AGRICULTURE

Rural Utilities Service

Tri-State Generation and Transmission Association, Inc.; Notice of Finding of No Significant Impact

AGENCY: Rural Utilities Service, USDA.

ACTION: Notice of finding of no significant impact.

SUMMARY: Notice is hereby given that the Rural Utilities Service (RUS) has made a finding of no significant impact in connection with a request from Tri-State Generation and Transmission Association, Inc. (Tri-State) for assistance from RUS to finance the construction and operation of an 150 MW combustion turbine generation facility in Hildago County, New Mexico.

FOR FUTHER INFORMATION CONTACT: Dennis E. Rankin, Environmental Protection Specialist, RUS, Engineering and Environmental Staff, Stop 1571, 1400 Independence Avenue, SW, Washington, DC 20250-1571, telephone: (202) 720-1953 or e-mail: drankin@rus.usda.gov.

SUPPLEMENTARY INFORMATION: Tri-State is proposing to construct a 150 MW combustion turbine generation plant at a site located approximately 12 miles southeast of Lordsburg, New Mexico, just west of State Highway 113 and 2 miles south of Interstate 10. The Pyramid Generating Station will consist of 4 General Electric LM-6000 combustion turbines that will provide approximately 150 MW of generating capacity. The gas turbines will be fueled by natural gas; light distillate oil will serve as the backup fuel. The natural gas will be supplied via a 10-mile lateral pipeline from an existing El Paso Gas pipeline. Water will be obtained from existing wells and a new well on the property. The project includes modifications to an existing transmission system. The Bureau of Land Management will issue a right-of-way permit for the sections of transmission line located on Federal land.

Copies of the Environmental Assessment and FONSI are available at, or can be obtained from, RUS at the address provided herein, or from Karl Myers, Tri-State, P.O. Box 33695, Denver, Colorado 80233-0695, telephone: (303) 452-6111 or e-mail: kmyers@tristategt.org.

Dated: April 4, 2002.
Blaine D. Stockton,
Assistant Administrator, Electric Program, Rural Utilities Service.

[FR Doc. 02-8688 Filed 4-9-02; 8:45 am]

BILLING CODE 3410-15-P